DEPARTMENT OF TRANSPORTATION

Surface Transportation Board

[STB Finance Docket No. 34413]

The Burlington Northern and Santa Fe Railway Company—Trackage Rights Exemption—Elgin, Joliet & Eastern Railway Company

Pursuant to a written trackage rights agreement dated September 22, 2003, Elgin, Joliet & Eastern Railway Company has agreed to grant certain non-exclusive trackage rights to The Burlington Northern and Santa Fe Railway Company (BNSF) between EJE milepost 1.6 at Joliet, IL, and EJE milepost 20.6 at Eola, IL, a distance of approximately 19 miles.

Although BNSF states that the transaction was scheduled to be consummated on October 7, 2003, the earliest the transaction could be consummated was October 8, 2003 (7 days after filing the notice).

The purpose of the trackage rights is to allow BNSF to operate more efficiently.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34413, must be filed with the Surface Transportation Board, 1925 K Street, NW., Washington, DC 20423-0001. In addition, a copy of each pleading must be served on Michael E. Roper, The Burlington Northern and Santa Fe Railway Company, 2500 Lou Menk Drive, PO Box 961039, Fort Worth, TX 76161-0039.

Board decisions and notices are available on our Web site at “http://www.stb.dot.gov.”

Decided: October 15, 2003.
By the Board, David M. Konschnik, Director, Office of Proceedings.
Vernon A. Williams,
Secretary.

[FR Doc. 03-26496 Filed 10-20-03; 8:45 am]

BILLING CODE 4915-00-P